DEPARTMENT OF HOMELAND SECURITY

Federal Emergency Management Agency

[FEMA-1458-DR]

Virginia; Amendment No. 1 to Notice of a Major Disaster Declaration

AGENCY: Federal Emergency Management Agency, Emergency Preparedness and Response Directorate, Department of Homeland Security.

ACTION: Notice.

SUMMARY: This notice amends the notice of a major disaster declaration for the Commonwealth of Virginia, (FEMA-1458-DR), dated March 27, 2003, and related determinations.

EFFECTIVE DATE: April 28, 2003.

FOR FURTHER INFORMATION CONTACT: Magda Ruiz, Recovery Division, Federal Emergency Management Agency, Washington, DC 20472, (202) 646-2705.

SUPPLEMENTARY INFORMATION: The notice of a major disaster declaration for the Commonwealth of Virginia is hereby amended to include the following areas among those areas determined to have been adversely affected by the catastrophe declared a major disaster by the President in his declaration of March 27, 2003:

Appomattox, Craig, Floyd, Halifax, Henry, Lee, Pittsylvania, Scott, and Wythe Counties and the cities of Danville and Norton for Public Assistance.

Buchanan, Dickenson, Montgomery, and Wise Counties and the cities of Roanoke and Salem for Public Assistance (already designated for Individual Assistance).

Prince William, Shenandoah, and Warren Counties and the cities of Manassas and Manassas Park for emergency protective measures (Category B) under the Public Assistance program for a period of 48 hours.

Lee, Pulaski, and Roanoke Counties for Individual Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program—Other Needs; 83.544, Public Assistance Grants; 83.548, Hazard Mitigation Grant Program.)
Michael D. Brown,
Undersecretary, Emergency Preparedness and Response.

[FR Doc. 03-11108 Filed 5-5-03; 8:45 am]

BILLING CODE 6718-02-P